INTERNATIONAL TRADE COMMISSION

[Investigation Nos. 701-TA-460-461 (Preliminary)]

Ni-Resist Piston Inserts from Argentina and Korea; Determinations

On the basis of the record ¹ developed in the subject investigations, the United States International Trade Commission (Commission) determines, pursuant to section 703(a) of the Tariff Act of 1930 (19 U.S.C. 1671b(a)) (the Act), that there is a reasonable indication that an industry in the United States is materially injured by reason of imports from Argentina and Korea of Ni-resist piston inserts, provided for in subheading 8409.99.91 of the Harmonized Tariff Schedule of the United States, that are alleged to be subsidized by the Governments of Argentina and Korea.

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under section 703(b) of the Act, or, if the preliminary determinations are negative, upon notice of affirmative final determinations in those investigations under section 705(a) of the Act. Parties that filed entries of appearance in the preliminary phase of the investigations need not enter a separate appearance for the final phase of the investigations. Industrial users, and, if the merchandise under investigation is sold at the retail level, representative consumer organizations have the right to appear as parties in Commission countervailing duty investigations. The Secretary will prepare a public service list containing the names and addresses of all persons, or their representatives, who are parties to the investigations.

Background

On January 26, 2009, a petition was filed with the Commission and Commerce by Korff Holdings LLC dba Quaker City Castings, Salem, Ohio, alleging that an industry in the United States is materially injured by reason of subsidized imports of Ni-resist piston inserts from Argentina and Korea. Accordingly, effective January 26, 2009, the Commission instituted countervailing duty investigations Nos. 701-TA-460-461 (Preliminary).

Notice of the institution of the Commission's investigations and of a public conference to be held in connection therewith was given by posting copies of the notice in the Office of the Secretary, U.S. International Trade Commission, Washington, DC, and by publishing the notice in the Federal Register of February 3, 2009 (74 FR 5946). The conference was held in Washington, DC, on February 17, 2009, and all persons who requested the opportunity were permitted to appear in person or by counsel.

The Commission transmitted its determinations in these investigations to the Secretary of Commerce on March 12, 2009. The views of the Commission are contained in USITC Publication 4066 (March 2009), entitled Ni-Resist Piston Inserts from Argentina and Korea: Investigation Nos. 701-TA-460-461 (Preliminary).

By order of the Commission.
Issued: March 19, 2009.
Marilyn R. Abbott,
Secretary to the Commission.

[FR Doc. E9-6491 Filed 3-24-09; 8:45 am]

BILLING CODE 7020-02-P